DEPARTMENT OF HEALTH AND HUMAN SERVICES

National Institutes of Health

Office of the Director Amended; Notice of Meeting

Notice is hereby given of a change in the meeting of the NIH Clinical Center Research Hospital Board, on Friday, April 28, 2017, 8:30 a.m. to April 28, 2017: 5:00 p.m., National Institutes of Health, Building 31, Conference Room 6C6, Bethesda, Maryland 20892 which was published in the Federal Register on Thursday, April 13, 2017, 82 FR 17847.

The meeting notice is amended to change the time of the closed session. The closed session that was previously announced being held from 3:20 p.m. to 5:00 p.m. to discuss the identification of candidates for leadership roles will now be held from 11:45 a.m. to 12:30 p.m.

Dated: April 14, 2017.
Jennifer S. Spaeth,
Director, Office of Federal Advisory Committee Policy.

[FR Doc. 2017-07939 Filed 4-19-17; 8:45 am]

BILLING CODE 4140-01-P